DEPARTMENT OF HOMELAND SECURITY

Federal Emergency Management Agency

[Docket ID FEMA-2020-0016]

Meetings To Implement Pandemic Response Voluntary Agreement Under Section 708 of the Defense Production Act

AGENCY: Federal Emergency Management Agency, Department of Homeland Security.

ACTION: Announcement of meetings; correction.

SUMMARY: The Federal Emergency Management Agency (FEMA) published a document in the Federal Register of November 3, 2021, concerning two meetings to implement the Voluntary Agreement for the Manufacture and Distribution of Critical Healthcare Resources Necessary to Respond to a Pandemic. The document contained incorrect dates.

FOR FURTHER INFORMATION CONTACT: Robert Glenn, Office of Business, Industry, Infrastructure Integration, via email at OB3I@fema.dhs.gov or via phone at (202) 212-1666.

SUPPLEMENTARY INFORMATION:

Correction

In the Federal Register of November 3, 2021, in FR Doc. 86-60636, on page 60636-60637, in the second column, correct the “Dates” caption to read:

DATES:The first meeting will take place on Tuesday, December 7, 2021, from 10 a.m. to 12 p.m. Eastern Time (ET). The second meeting will take place on Thursday, December 9, 2021, from 10 a.m. to 12 p.m. ET.

Dated: November 30, 2021.
Shabnaum Q. Amjad,
Deputy Associate Chief Counsel, Regulatory Affairs Division, Office of Chief Counsel, Federal Emergency Management Agency.

[FR Doc. 2021-26303 Filed 12-2-21; 8:45 am]

BILLING CODE 9111-19-P